POSTAL SERVICE

39 CFR Part 111

Clarification of Content Eligibility for Standard Mail Marketing Parcels

AGENCY: Postal Service.™

ACTION: Proposed rule.

SUMMARY: The Postal Service proposes to clarify Mailing Standards of the United States Postal Service, Domestic Mail Manual (DMM®) to reaffirm basic eligibility standards for Standard Mail Marketing Parcels.

DATES: Submit comments on or before February 13, 2015.

ADDRESSES: Mail or deliver written comments to the Manager, Product Classification, U.S. Postal Service, 475 L'Enfant Plaza SW., Room 4446, Washington, DC 20260-5015. You may inspect and photocopy all written comments at USPS Headquarters Library, 475 L'Enfant Plaza SW., 11th Floor North, Washington, DC, by appointment only, between 9 a.m. and 4 p.m., Monday through Friday by calling 202-268-2906 in advance. Email comments, containing the name and address of the commenter, may be sent to: ProductClassification@usps.gov, with a subject line of “Marketing Parcels.” Faxed comments are not accepted.

FOR FURTHER INFORMATION CONTACT: Lizbeth Dobbins at 202-268-3789, John F. Rosato at 202-268-8597, or Suzanne Newman at 202-695-0550.

SUPPLEMENTARY INFORMATION: To ensure consistency and clarity about the content eligibility of Standard Mail Marketing Parcels, the Postal Service recently published an article in Postal Bulletin 22406 (January 8, 2015) to remind customers about the basic eligibility and address format standards for this classification of mail.

Background

Standard Mail Marketing Parcels were specifically designed for mailers to send items or samples to potential customers. Our original intent was to build a low cost prospecting vehicle and we built in a few factors to minimize handling costs. One of those factors, the alternative addressing format, was required so that the current resident became the recipient of the mailpiece if the named addressee had moved. This avoided extra delivery and forwarding handling costs. Another was that these pieces needed to be similar in shape and weight if mailed in a single mailing. Other types of size restrictions were also a requirement.

Building upon our original intent, and to keep this product a viable promotional and cost-effective vehicle, we are adding stronger language about content eligibility and address format. All Standard Marketing parcels (regular and nonprofit) must bear an alternate addressing format and cannot be used for “fulfillment purposes” (i.e. the sending of items specifically purchased or requested by the customer of a mailer). The one exception will be if a customer selects samples as a result of an ordering mechanism and the samples are sent in a separate package and not inside the same package as the fulfillment item. Moreover, the alternate address format must be on the same line as the addressee's name, or on the address line directly above or below the addressee's name.

We look forward to feedback from the mailing community to help maintain Standard Mail Marketing Parcels as a viable, cost-effective product.

List of Subjects in 39 CFR Part 111

Administrative practice and procedure, Postal Service.

Although we are exempt from the notice and comment requirements of the Administrative Procedure Act (5 U.S.C. 553(b), (c)) regarding proposed rulemaking by 39 U.S.C. 410(a), we invite public comments on the following proposed revisions to Mailing Standards of the United States Postal Service, Domestic Mail Manual (DMM), incorporated by reference in the Code of Federal Regulations. See 39 CFR 111.1. Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States

Postal Service, Domestic Mail Manual (DMM), as follows:

Mailing Standards of the United States Postal Service, Domestic Mail Manual (DMM)

* * * * *

240 Standard Mail

243 Prices and Eligibility

* * * * *

3.0 Basic Eligibility Standards for Standard Mail

* * * * *

3.2 Defining Characteristics

* * * * *

3.2.2 Standard Mail Marketing Parcels

[Revise 3.2.2 to read as follows:]

All Standard Mail Marketing parcels (regular and nonprofit) must bear an alternate addressing format and cannot be used for “fulfillment purposes” (i.e. the sending of items specifically purchased or requested by the customer of a mailer). The alternate address format must be on the same line as the addressee's name or on the address line directly above or below the addressee's name.

* * * * *

We will publish an appropriate amendment to 39 CFR part 111 to reflect these changes if our proposal is adopted.

Stanley F. Mires,
Attorney, Federal Requirements.

[FR Doc. 2015-00401 Filed 1-13-15; 8:45 am]

BILLING CODE 7710-12-P